DEPARTMENT OF TRANSPORTATION

Federal Aviation Administration

Notice of Intent To Rule on Application 01-01-C-00-SBY To Impose and Use the Revenue From a passenger Facility Charge (PFC) at Salisbury-Ocean City: Wicomico Regional Airport, Salisbury, MD

AGENCY: Federal Aviation Administration (FAA), DOT.

ACTION: Notice of intent to rule on application.

SUMMARY: The FAA proposes to rule and invites public comment on the application to impose and use the revenue from a PFC at Salisbury-Ocean City: Wicomico Regional Airport under the provisions of the Aviation Safety and Capacity Expansion Act of 1990 (title IX of the Omnibus Budget Reconciliation Act of 1990) (Public Law 101-508) and part 158 of the Federal Aviation Regulations (14 CFR part 158).

DATES: Comments must be received on or before November 14, 2001.

ADDRESSES: Comments on this application may be mailed or delivered in triplicate to the FAA at the following address: 1 Aviation Plaza, Airports Division, AEA-610, Jamaica, New York 11434-4809.

In addition, one copy of any comments submitted to the FAA must be mailed or delivered to Robert L. Bryant, A.A.E., Airport Manager at the following address: 5485 Airport Terminal Road, Unit A, Salisbury, Maryland 21804.

Air carriers and foreign air carriers may submit copies of written comments previously provided to the Wicomico County Airport Commission under section 158.23 of part 158.

FOR FURTHER INFORMATION CONTACT: Eleanor Schifflin, PFC Program Manager, Airports Division, Planning & Programming Branch, AEA-610, 1 Aviation Plaza, Jamaica, New York 11434-4809, (718) 553-3354. The application may be reviewed in person at this same location.

SUPPLEMENTARY INFORMATION: The FAA proposes to rule and invites public comment on the application to impose and use the revenue from a PFC at Salisbury-Ocean City: Wicomico Regional Airport under the provisions of the Aviation Safety and capacity Expansion Act of 1990 (title IX of the Omnibus Budget Reconciliation Act of 1990) (Public law 101-508) and part 158 of the Federal Aviation Regulations (145 CFR part 158).

On September 17, 2001, the FAA determined that the application to impose and use the revenue from a PFC submitted by Wicomico County Airport Commission was substantially complete within the requirements of section 158.25 of part 158. The FAA will approve or disapprove the application, in whole or in part, no later than December 13, 2001.

The following is a brief overview of the application.

PFC Application No.: 01-01-C-00-SBY.

Level of the proposed PFC: $3.00.

Proposed charge effective date: December 1, 2001.

Proposed charge expiration date: August 1, 2004.

Total estimated PFC revenue: $440,000.

Brief description of proposed project(s):

• Develop PFC Program and PFC Application.

• Install Airfield Guidance Signs and Electrical Vault.

• Construct Taxiway “B” Extension, Overlay Taxiway “D” and “C” and Widen Fillets Runway 5-23.

• Acquire Land: Runway 5 and 23 Approaches.

• Obstruction Removal Runway 23 Phase I and II.

• Construct Runway 23 Safety Area and Airfield Drainage.

• Rehabilitate Runway 5-23 MIRLs and Runway 5 end REILS.

• Conduct Environmental Assessment—5 Year ACIP Development Projects.

• Acquire Snow Removal Equipment.

• Passenger Lift Equipment.

Class or classes of air carriers which the public agency has requested not be required to collect PFCs: Unscheduled part 135 and part 121 charter operations for hire to the general public.

Any person may inspect the application in person at the FAA office listed above under FOR FURTHER INFORMATION CONTACT and at the FAA Airport District Office located at: 23723 Air Freight Ln., Suite 210, Dulles, Virginia 20166.

In addition, any person may, upon request, inspect the application, notice and other documents germane to the application in person at the Wicomico County Airport Commission.

Issued in Jamaica, New York on September 27, 2001.
Eleanor Schifflin,
PFC Program Manager, Planning & Programming Branch, Eastern Region.

[FR Doc. 01-25860 Filed 10-12-01; 8:45 am]

BILLING CODE 4910-13-M